DEPARTMENT OF THE INTERIOR

U.S. Geological Survey

[GX13GG009950000]

Scientific Earthquake Studies Advisory Committee

AGENCY: U.S. Geological Survey.

ACTION: Notice of meeting.

SUMMARY: Pursuant to Public Law 106-503, the Scientific Earthquake Studies Advisory Committee (SESAC) will hold its next meeting at the Incorporated Research Institutions for Seismology, 1200 New York Avenue, Suite 400, Washington, DC 20005. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program. Focus topics for this meeting include induced seismicity, earthquake early warning and international activities.

Meetings of the Scientific Earthquake Studies Advisory Committee are open to the public.

DATES: April 4-5, 2013, commencing at 8:30 a.m. on the first day and adjourning at Noon on April 5, 2013.

Contact: Dr. William Leith, U.S. Geological Survey, MS 905, 12201 Sunrise Valley Drive, Reston, Virginia 20192, (703) 648-6786, wleith@usgs.gov.

Dated: March 22, 2013.
David J. Newman,
U.S. Geological Survey Federal Register Liaison.

[FR Doc. 2013-07133 Filed 3-27-13; 8:45 am]

BILLING CODE 4311-AM-P